NATIONAL SCIENCE FOUNDATION

Advisory Committee for Computer and Information Science and Engineering; Notice of Meeting

In accordance with Federal Advisory Committee Act (Pub. L. 92-463, as amended), the National Science Foundation announces the following meeting:

Name: Advisory Committee for Computer and Information Science and Engineering (1115).

Date/Time: November 28, 2012: 12:00 p.m. to 5:30 p.m.

November 29, 2012: 8:30 a.m. to 2:30 p.m.

Place: National Science Foundation, 4201 Wilson Boulevard, Suite 1235, Arlington, Virginia 22203.

Type of Meeting: Open.

Contact Person: Carmen Whitson, National Science Foundation, 4201 Wilson Boulevard, Suite 1105, Arlington, Virginia 22203, 703/292-8900.

Purpose of Meeting: To advise NSF on the impact of its policies, programs and activities on the Computer and Information Science and Engineering (CISE) community. To provide advice to the Assistant Director for CISE on issues related to long-range planning for research, education, and infrastructure.

Agenda:

• Overview of CISE programs and priorities, including programmatic updates on Big Data and Smart Health.

• Overview of Office of Cyberinfrastructure (OCI) programs and priorities.

• Update on CISE's use of virtual panels.

• Report from Education and Workforce Development subcommittee.

• Report from Mid-scale Infrastructure subcommittee.

• Presentations from recent Secure and Trustworthy Cyberspace (SaTC) Frontier awardees.

• Welcome from Dr. Subra Suresh, NSF Director, and Dr. Cora Marrett, NSF Deputy Director.

• Closing remarks and wrap up.

Dated: November 1, 2012.
Susanne Bolton,
Committee Management Officer.

[FR Doc. 2012-27067 Filed 11-6-12; 8:45 am]

BILLING CODE 7555-01-P